DEPARTMENT OF COMMERCE

National Oceanic and Atmospheric Administration

RIN 0648-XE135

Western Pacific Management Council; Public Meeting

AGENCY: National Marine Fisheries Service (NMFS), National Oceanic and Atmospheric Administration (NOAA), Commerce.

ACTION: Notice of a public meeting.

SUMMARY: The Western Pacific Fishery Management Council (Council) will convene a half-day meeting on Friday, September 25, 2015 regarding social, economic, ecological, and management uncertainty (SEEM) factors pertinent to setting annual catch limits (ACLs) for bottomfish fisheries in American Samoa, Guam, and the Commonwealth of the Northern Mariana Islands.

DATES: The meeting will be held on Friday, September 25, 2015, starting at 1 p.m. Hawaii Standard Time.

ADDRESSES: The meeting will be held at the Council office, 1164 Bishop St., 14th Floor, Honolulu, HI 96813 and via teleconference; conference telephone: (808) 522-3560.

FOR FURTHER INFORMATION CONTACT: Kitty M. Simonds, Executive Director, Western Pacific Fishery Management Council; telephone: (808) 522-8220.

SUPPLEMENTARY INFORMATION:

Agenda

Friday, September 25, 2015

Following introductions, participants will review the overfishing limit for territorial bottomfish fisheries and the results of risk analyses that considered quality of the stock assessment, uncertainty characteristics, stock status, and productivity and susceptibility. Participants will then discuss social, economic, ecological, and management uncertainty factors relevant to these fisheries that may warrant the Council to consider additional catch limit reductions. Finally, individuals will score these factors and these scores will be averaged in order to reach consensus on a recommendation to the Council.

Special Accommodations

This meeting is physically accessible to people with disabilities. Requests for sign language interpretation or other auxiliary aids should be directed to Kitty M. Simonds (see ADDRESSES) at least 5 days prior to the meeting date.

Dated: September 2, 2015.
Tracey L. Thompson,
Acting Deputy Director, Office of Sustainable Fisheries, National Marine Fisheries Service.

[FR Doc. 2015-22540 Filed 9-4-15; 8:45 am]

BILLING CODE 3510-22-P